DEPARTMENT OF ENERGY

Federal Energy Regulatory Commission

Notice of Change In IC Docket Numbering Policy

Notice is hereby given that the Commission is modifying the numbering system for the docket prefix IC. These IC docket notices announce the Commission's efforts to have public involvement in its information collection requirements prior to requesting and obtaining approval from the Office of Management and Budget (OMB).

The Paperwork Reduction Act of 1995 (44 U.S.C. 35) requires agencies to plan for the development of new collections of information and the extension of existing collections of information far in advance of sending them forward to OMB for approval. Advanced planning is necessary because agencies must incorporate public participation in the development of information collection requirements imposed on the public. To achieve this public participation, the Commission must “provide 60-day notice in the Federal Register, and otherwise consult with members of the public and affected agencies” (44 U.S.C. 3506(c)(2)(A)). In these notices, the Commission must solicit comments on the need for the information, its practical utility, the accuracy of the Commission's burden estimate, and ways to minimize the burden, including through “the use of automated collection techniques or other forms of information technology.”

In addition, agencies must publish a notice in the Federal Register stating that the proposed collection of information has been submitted for OMB review. This is the second notice to appear in the Federal Register and provides the public with a second opportunity to comment. OMB must provide at least 30 days for public comment after receipt of the Commission's submission and prior to making a decision.

On December 30, 1997, the Commission adopted the current IC docket prefix ¹ in order to properly track any comments it receives in response to Federal Register notices concerning the Commission's collections of information. In order to respond to current technical and tracking needs of its information collections, the Commission is revising the way the IC docket prefix is set up. Beginning on October 1, 2011, IC dockets will continue to be set up as ICFY-NNN-NNN. However, the first “NNN” for new IC dockets will now be a sequential number (rather than the collection or form number), as notices are issued over the course of the fiscal year. In addition, the second “NNN” will now be “000” for both 60-day and 30-day notices. For example, docket number IC12-1-000 would contain all material pursuant to the extension of a single collection of information (rather than material related to the FERC Form 1).

¹ The Notice is available in eLibrary at http://elibrary.ferc.gov/idmws/search/intermediate.asp?link_file=yes&doclist=3058091. The IC dockets were set up as ICFY-NNN-NNN, where the FY stood for the fiscal year in which the notice was issued, the first NNN represented an identifier for the Commission's collection of information requirement, and the second NNN represented either the first or second notice, with 000 to designate a 60-day notice and 001 to designate a 30-day notice. For example, IC07-2-000 represented the 60-day notice for the Commission information collection FERC Form No. 2 during the fiscal year 2007.

The RM docket prefix will continue to be used for rulemakings that affect information collections.

Dated: September 19, 2011.
Kimberly D. Bose,
Secretary.

[FR Doc. 2011-24763 Filed 9-26-11; 8:45 am]

BILLING CODE 6717-01-P